POSTAL SERVICE

39 CFR Part 111

Implementation of Full-Service Intelligent Mail Requirements for Automation Prices

AGENCY: Postal Service ™.

ACTION: Final rule.

SUMMARY: The Postal Service is revising Mailing Standards of the United States Postal Service, Domestic Mail Manual (DMM®), throughout various sections to modify eligibility requirements for mailers to qualify for automation prices. Effective January 26, 2014, use of “full-service” Intelligent Mail® is required to qualify for automation prices for postcards (First-Class Mail® only), letters, and flats when mailed using the following services: First-Class Mail, Standard Mail® and Periodicals®; and for flats mailed at Bound Printed Matter® prices. Additionally, the 10/24 transitional barcoded tray label format is eliminated, and mailers are required to use the 24-digit Intelligent Mail barcode (IMb ™) format on tray, tub, and sack labels.

DATES: Effective Date: January 26, 2014.

FOR FURTHER INFORMATION CONTACT:

Ana Cikowski | email: ana.cikowski@usps.gov | phone: 202-268-8079.
Himesh Patel | email: himesh.a.patel@usps.gov | phone: 703-280-7498.
Garrett Hoyt | email: garrett.m.hoyt@usps.gov | phone: 202-268-5714.

SUPPLEMENTARY INFORMATION: On October 17, 2012, the Postal Service published a Notice of Proposed Rulemaking in the Federal Register (77 FR 63771-63781) to require use of full-service Intelligent Mail to qualify for automation prices when mailing First-Class Mail (FCM), Standard Mail, Periodicals, and Bound Printed Matter (BPM) postcards, letters, or flats, as applicable.

For questions regarding full-service requirements, contact the Postal Service by email at fullservice@usps.gov or call the PostalOne! Help Desk at 800-522-9085.

Background

In January 2009, the Postal Service offered the mailing industry two Intelligent Mail options for automation discounts, which consisted of basic-service and full-service. Currently, a large number of mailers are using these two options and reaping numerous benefits and value.

Since the introduction of full-service Intelligent Mail, the Postal Service has worked closely with mailers, software vendors, and mail service providers to simplify, refine, and evolve full-service offerings. While thousands of users demonstrated the ability to meet the requirements for full-service Intelligent Mail, the Postal Service recognizes that this initiative requires significant changes for those mailers who currently benefit from automation discounts but are not presenting full-service mailings. Therefore, the Postal Service is continually working with the mailing industry to simplify the transition to full-service Intelligent Mail.

Full-Service Mailings

Full-service Intelligent Mail combines the use of unique barcodes with the provision of electronic information regarding the makeup and preparation of mail, which provides high-value services and enables efficient mail processing.

Mailings must bear Intelligent Mail barcodes on mailpieces, trays, and containers, where applicable. Also, mailers must submit mailing documentation electronically.

When preparing full-service mailings, mailers are required to:

• Apply unique Intelligent Mail barcodes (IMb) to identify each postcard, letter, and flat mailpiece. Small mailings containing fewer than 10,000 pieces can use the same serial number for all pieces, if postage is affixed to each piece at the correct price, or all pieces are of identical weight and separated by price.

• Individually meet the eligibility requirements for automation prices according to class and shape.

• Apply unique Intelligent Mail tray barcodes (IMtb) on trays, tubs, and sacks.

• Apply unique Intelligent Mail container barcodes (IMcb) on placards for containers, such as pallets, when required.

• Schedule appointments through the Facility Access and Shipment Tracking system (FAST ®) if mail is accepted at an origin facility and entered at a downstream USPS ™ processing facility.

• Use an approved electronic method to transmit mailing documentation and postage statements to the Postal Service.

• If the mailing is prepared or presented on behalf of another entity, the electronic documentation (eDoc) must include additional information to support the by/for mailing relationships. Mail service providers (agents) do not have to provide by/for data for mail owners with 5,000 or fewer pieces in a mailing. All other mailings must include by/for information. The mail owner and mailing agent are described as follows:

Mail Owner: The mail owner is the business entity, organization, or individual who makes business decisions regarding the mailpiece content, directly benefits from the mailing, and ultimately pays for postage on the mailpiece directly or by way of a mailing agent.

Mailing Agent: The mailing agent is a business entity, organization, or individual acting on behalf of one or more mail owners by providing mailing services for which the mail owners compensate the mailing agent. A business entity, organization, or individual whose services define it as a mailing agent may also be considered a mail owner, but only for its own mail or the mail of its subsidiaries. Mailing agents include, but are not limited to the following: Printer, letter shop, address list provider/manager; mail preparer, postage payment provider, mailing logistics provider, mailing tracking provider, ad agency, and mailing information manager.

The Postal Service's Vision

The strategic vision of the Postal Service is to create 100 percent visibility for mail in the mail stream. This visibility provides full-service mailers with near real-time data that specifies the location of mailpieces within the postal mail stream and the delivery day.

The Postal Service continues the ongoing transformation of data visibility and evolution of technological innovations to achieve this vision.

The mailer's use of full-service Intelligent Mail is an integral part of the Postal Service's ongoing strategy to provide cost-effective and service-responsive mailing services. Efficient use of postal resources can be achieved with advance information about the content and makeup of the mail. As mail is processed and sorted, postal sorting equipment captures volume and destination information. The Postal Service built and is refining systems that make information available to downstream postal facilities for use with operational planning. The planning data enabled through full-service mailings provides significant opportunities for improvements in efficiency and service performance.

Benefits and Advantages

If all guidelines are followed and requirements met, full-service Intelligent Mail offers advantages to mailers and the Postal Service.

Advantages for Mailers

• Mailers receive free undeliverable-as-addressed information including address correction service (ACS) and nixie service. (A nixie is a mailpiece that cannot be sorted or delivered because of an incorrect, illegible, or insufficient delivery address. Nixie service enables the processing of mail that cannot be forwarded or delivered as addressed and notifies mailers electronically of the specific reason for non-delivery.)

• A mailer receives start-the-clock information indicating when the mail was accepted by the Postal Service.

• Mailers receive container, tray, bundle, and mailpiece scans from induction to destination processing.

• Mailers are able to more effectively plan operations, assess the success of advertising campaigns, and improve customer interaction.

• Mailers are provided with comprehensive information on the status of mailings as they progress through the postal mail stream.

• Visibility enables mailers to respond more effectively to customer inquiries on the status of bills, statements, catalogs, and publications.

• A mailer's annual mailing permit fee is waived when the mailer enters 90 percent or more of full-service volume using the associated permit within the year.

• The “Mail Anywhere” program allows the use of a single permit at any PostalOne!® site for mailings containing 90 percent or more of full-service mailpieces. This simplifies permit management and enables the mailer to maintain a single account to enter and pay for mailings. Full-service mailers may also use the “Pay Anywhere” program, which allows customers to make deposits to their permit trust accounts at any Point of Sale (POS) retail site that supports business mail entry unit (BMEU) transactions. The Mail Anywhere and Pay Anywhere processes are in pilot and will launch by July 31, 2013. To sign up for the pilot or the program after implementation, contact the PostalOne! Help Desk at 800-522-9085. For additional information about the programs, access RIBBS by logging on to http://ribbs.usps.gov.

• Simplified mail entry and acceptance through programs enabled by full-service including eInduction and Seamless Acceptance.

Advantages for the Postal Service

• Visibility into the flow of mail through the postal mail stream enables enhanced diagnostics of service performance. The ability to measure service performance is available for each full-service mailing.

• Scan data allows the Postal Service to measure the number of hours and minutes between operations.

• Scan data allows the Postal Service to identify operational bottlenecks and continue to improve service for commercial First-Class Mail, Standard Mail, Periodicals, and BPM.

• Ability to provide real-time alerts to postal operations enables employees to respond to and avoid potential service failures.

• Advance notification of volume and makeup of commercial mail enables improved resource planning.

• Ability to accurately track mail volumes as they move through the postal network enables improved management and staffing of operations.

• Simplified mail acceptance processes increase productivity. With the availability of full-service mailing data and unique identifiers, the business mail acceptance procedures are streamlined with programs such as eInduction and Seamless Acceptance.

Verification Procedures

Existing Automation Verifications

After January 26, 2014, acceptance employees will continue to perform existing verification and assessment processes. Existing verifications include but are not limited to validation of the mailpiece dimensions, shape, weight, flexibility, barcode quality, content, presort makeup, and automation eligibility. Should a mailing fail existing verifications, the mailer may choose to have the disqualified mailing returned for re-work or pay the additional postage. The existing thresholds used to verify and qualify automation mailings will apply.

Full-Service Acceptance Verifications

In addition to the existing verifications described above, acceptance employees perform additional verifications on full-service mailings to ensure that Intelligent Mail barcodes are present and readable on mailpieces, trays, and containers where applicable and that the mailing is presented with proper eDoc. The existing thresholds used to verify and qualify full-service mailings for readable barcodes and submission of eDoc will apply. Should a mailing fail existing verifications, the mailer may choose to have the disqualified mailing returned for re-work or pay the additional postage to mail at a non-automation price.

Full-Service Electronic Verification

In addition to the above verification processes, the Postal Service performs additional validations of the following information contained in the eDoc submitted with full-service mailings. The Postal Service provides detailed data from these verifications including by/for information, service type ID, mailer ID, unique barcodes (piece, handling unit, container), entry facility, and co-palletization information.

• Service Type ID: A service type ID that is provided in the IMb and contained in the eDoc is appropriate for the class of mail and service level of the mailpiece.

• Mailer ID: A mailer ID that is provided in the IMb, IMtb, and/or IMcb and contained in the eDoc is valid (registered with the USPS Mailer ID system).

• Unique Piece Barcode: An IMb contained in the eDoc is unique across mailings for 45 days. Exception: Small mailings that have fewer than 10,000 pieces, where postage is affixed to each piece at the correct price or each piece is of identical weight and the mailpieces are separated by price, can use the same serial number for all pieces in the mailing. In this case, uniqueness is required for the serial number at the mailing level. A different serial number should be used for each mailing and the serial number cannot be repeated within 45 days.

• Unique Tray Barcode: An IMtb that contained in the eDoc is unique across mailings for 45 days. Exception: Small mailings that have fewer than 10,000 pieces can use the same serial number for all trays in the mailing, if postage is affixed to each piece at the correct price, or the pieces are of identical weight and separated by price.

• Unique Container Barcode: An IMcb contained in the eDoc is unique across mailings for 45 days.

• Co-Palletization: Co-palletized mailings must have eDoc submitted by both the origin facility and the consolidator to describe the movement of trays and sacks.

• Entry Facility: Entry facility provided in eDoc (Locale key or ZIP Code) is a valid USPS facility.

• By/For: Electronic documentation is checked to ensure that the mail owner and mailing agent identification are accurately populated.

The results of additional full-service electronic verifications are displayed in reports aggregated over a one-month period. The Postal Service continues to work with the mailing industry to share the results of these reports and address issues and gaps. No assessments will be made as a result of any additional full-service electronic verification until July 1, 2014. To develop reasonable thresholds and measure electronic documentation quality, the Postal Service will evaluate the data trends of full-service electronic verifications.

Summary of Comments and USPS Responses

The Postal Service received comments from 52 respondents within the mailing industry. These comments, in addition to feedback from the Mailers Technical Advisory Council (MTAC), Postal Customer Councils (PCC), and other outreach efforts, allowed the Postal Service to develop initiatives that can enable mailers to efficiently transition to full-service Intelligent Mail.

The Postal Service appreciates all of the valuable comments that were provided. The following concerns were expressed:

Pricing and Mail Preparation Comments

Mailer Comment

How will the Postal Service verify the 90 percent requirement to obtain the permit fee waiver? If the percentage drops below 90, is the client be assessed a charge?

Postal Service Response

The Postal Service verifies that every individual mailing meets the 90 percent full-service criteria by checking the full-service percentage on the postage statements as they are processed. If every statement meets the 90 percent full-service criteria, the permit fee will not be activated and required when it is due. If, however, a mailing fails to meet the 90 percent full-service threshold, the annual permit fee is required and activated on the date of the failure to process the mailing. The annual fee will be good for one year.

In response to industry feedback, the Postal Service reviewed an alternative approach to consider waiving the annual permit fee when the cumulative volume throughout the year remains at or over 90 percent full-service.

Mailer Comment

When a mailing fails to qualify for full-service Intelligent Mail, the penalties assessed are substantial. It is imperative that the Postal Service be as precise as possible about qualification and verification requirements.

Please clarify what is measured to validate that the full-service requirements are being met. Is there a threshold or tolerance of less than 100 percent of the pieces in a full-service mailing, yet that mailing still qualifies for automation prices?

Postal Service Response

After January 26, 2014, acceptance employees will continue to perform existing verification and assessment processes. Existing verifications include validation of the mailpiece dimensions, shape, weight, flexibility, barcode quality, content, presort makeup, and automation eligibility. Should a mailing fail existing verifications, the mailer may choose to have the disqualified mailing returned for re-work or pay the additional postage. The existing thresholds used to verify and qualify automation mailings will apply.

In addition to the existing verifications described above, acceptance employees perform additional verifications on full-service mailings to ensure that Intelligent Mail barcodes are present, readable, and accurate on mailpieces, trays and containers where applicable, and that the mailing is presented with electronic documentation. The existing thresholds used to verify and qualify full-service mailings will apply.

Should a mailing fail the existing verifications, the mailer may choose to have the disqualified mailing returned for re-work or pay the additional postage to mail at a non-automation price.

Additionally, the Postal Service performs validations of the information that is submitted with full-service mailings. The results of full-service electronic verifications are displayed in reports aggregated over a one-month period. The Postal Service continues to work with the mailing industry to share the results of these reports and address issues and gaps.

No assessments will be made as a result of any full-service electronic verification until July 1, 2014. To develop reasonable thresholds and measure electronic documentation quality, the Postal Service evaluates the data trends of full-service electronic verifications.

Mailer Comment

Our organization is concerned about the revision to DMM 705.24.1, “Full-service automation mailings may include automation-compatible pieces without barcodes, with POSTNET barcodes, or with Intelligent Mail barcodes. Mailings of full-service automation letters must not be comingled in the same tray with automation-compatible pieces without barcodes, with POSTNET barcodes, or with non-full-service Intelligent Mail barcodes, and these pieces will not be used to meet the eligibility standards for full-service or receive associated benefits.”

This revision seems to overlook the realities of mail production operations. It is simply not possible to validate and ensure that every single mailpiece is 100 percent full-service. However, when operations are finalized, all pieces can be fully validated and identified in the eDoc within an appropriate tolerance.

Postal Service Response

Based on customer feedback, this language has been revised in the Federal Register notice, final rule. Full-service automation letters must not be comingled in the same tray with pieces without barcodes, pieces with POSTNET barcodes, or pieces with an IMb without a delivery point. Full-service automation mailpieces may be comingled in a tray with non-full-service eligible pieces with an IMb containing a delivery point.

PostalOne! and IT Systems Comments

Mailer Comment

Not all mailings eligible for automation prices are currently supported electronically by PostalOne! e.g. FCM bundle-based flats and FCM manifest mailings, etc. By 2014, will PostalOne! electronically support all mailings that are currently prepared for automation prices? If not, what will the Postal Service do regarding this issue and will the mailings continue to receive automation prices?

Postal Service Response

The Postal Service is working with the mailing industry to resolve the current technical issues preventing the upload of eDoc for all full-service automation mailings prior to January 26, 2014.

Mailer Comment

Due to technical limitations of the current Mail.dat and PostalOne! system architecture, mailers of Multi-line Optical Character Reader (MLOCR) bundle-based FCM flats are at risk of being excluded from participating in full-service Intelligent Mail, which would not qualify them for automation prices. How does the Postal Service plan to address these technical limitations to enable all MLOCR bundle-based mailers to participate in full-service? If the technical issues cannot be resolved prior to January 2014, are the MLOCR mailers exempted from the full-service requirement and still able to qualify for automation prices until the matter is resolved?

Postal Service Response

The Postal Service is working with the mailing industry to resolve the current technical issues for MLOCR bundled-based flats prior to January 26, 2014.

Mailer IDs (MIDs) and Customer Registration IDs (CRIDs) Comments

Mailer Comment

How will the Postal Service focus more attention and resources on resolving issues regarding systems and processes around CRID/MID assignment and maintenance? Also, how does the Postal Service plan to improve the customer-facing processes and systems, especially as it relates to CRID/MID assignments and the BCG?

Postal Service Response

There are currently three methods whereby mail service providers and mail owners can acquire 9-Digit MIDs and/or CRIDs. These methods were described in the “Quick Step Guide to Nine-Digit MID and/or CRID Acquisition”, posted on RIBBS at https://ribbs.usps.gov/intelligentmail_mail_id_app/documents/tech_guides/MIDCRIDAcquisitionQuickStep.pdf.

Manual requests for MIDs and CRIDs will be handled by the Postal Service Help Desk, which allows mailers to request a ticket number and track the time to resolve issues.

In July 2013, the Postal Service will implement functionality for a fourth method that allows mail service providers to obtain CRIDs and MIDs on behalf of customers, through the Business Customer Gateway (BCG) interface. Additionally, there will be enhancements to allow users to more easily manage their profile when adding or removing business locations and services.

Mailer Comment

Our customers view the mail service provider's requests for MIDs/CRIDs as harassment rather than help. In fact, they have us log into the BCG on their behalf to obtain a MID/CRID for mailing, because they have no interest in setting this up themselves.

The Postal Service established some simpler ways for mail service providers to obtain MIDs/CRIDs, but unfortunately the methods established were not yet responsive enough to meet the needs of our customers, which force us to continue the tedious process of creating them individually. Often, we don't have 24 hours to wait for MIDs/CRIDs.

Postal Service Response

There are currently three methods through which mail service providers and mail owners can acquire 9-Digit MIDs and/or CRIDs. These methods were described in detail in the “Quick Step Guide to Nine-Digit MID and/or CRID Acquisition”, posted on RIBBS at https://ribbs.usps.gov/intelligentmail_mail_id_app/documents/tech_guides/MIDCRIDAcquisitionQuickStep.pdf.

In July 2013, the Postal Service will implement functionality for a fourth method that allows mail service providers to obtain CRIDs and MIDs on behalf of their customers through the BCG interface. In addition, there are enhancements to allow users to more easily manage their profile, when adding or removing business locations and services.

Mailer Comment

There are issues with the MIDs that are required on the mailpieces, trays, and pallets. Presently, the Postal Service doesn't verify that the MIDs used in mailings are correct and authorized by the MID owner for use in a particular mailing, which could potentially lead to data going to the wrong organization.

Postal Service Response

It is the responsibility of the mail owner or mail service provider to ensure that information provided is accurate and complete. To help support mail owners and mail service providers, the Postal Service will implement a validation tool in July 2013 that allows mail service providers to validate CRIDs and MIDs. This tool enables a mail service provider to identify/validate the owner of a MID or CRID before it is used in a mailing.

Further information on MIDs and CRIDs can be found in the “Quick Step Guide to Nine-Digit MID and/or CRID Acquisition”, posted on RIBBS at https://ribbs.usps.gov/intelligentmail_mail_id_app/documents/tech_guides/MIDCRIDAcquisitionQuickStep.pdf.

By/For Requirements and Mail Quality Errors & Reporting Comments

Mailer Comment

How much time will mailers be given to take corrective action on mail quality errors, and what are the penalties for non-compliance?

Postal Service Response

After January 26, 2014, acceptance employees will continue to perform additional verifications on full-service mailings to ensure that Intelligent Mail barcodes are present and readable on mailpieces, trays, and containers where applicable, and that the mailing is presented with proper eDoc. The existing thresholds used to verify and qualify full-service mailings to ensure that barcodes are present and readable and submission of eDoc will apply. Should a mailing fail existing verifications, the mailer may choose to have the disqualified mailing returned for re-work or pay the additional postage to mail at a non-automation price.

In addition to the full-service verifications described above on the physical mail, the USPS performs validations of information contained in the electronic documentation submitted with full-service mailings. The results of these full-service electronic verifications are displayed in reports aggregated over a one-month period. The USPS evaluates the data trends of full-service electronic verifications to develop reasonable thresholds to measure electronic documentation quality. Results from electronic verifications should be displayed to the mailer within 48 hours of the postage statement finalization. Mailers may use the Mailer Scorecard report in the PostalOne! microStrategy environment to review the mailing electronic verification quality and drill into detailed information on each error.

No assessments will be made as a result of any full-service electronic verification until July 1, 2014. Information on accessing and using the Mailer Scorecard can be found on RIBBS at http://ribbs.usps.gov.

Mailer Comment

Please provide clarity regarding how the Postal Service plans to manage quality errors — namely: What evidence will be provided to the mailer? Are mailers allowed to fix errors? Also, if mail is disqualified from using full-service Intelligent Mail, how can it re-qualify? What is the timeframe in which the Postal Service will communicate quality errors to the mailer and mail service provider?

Postal Service Response

After January 26, 2014, acceptance employees will continue to perform additional verifications on full-service mailings to ensure that Intelligent Mail barcodes are present, and readable on mailpieces, trays, and containers where applicable, and that the mailing is presented with proper eDoc. The existing thresholds used to verify and qualify full-service mailings to ensure that barcodes are present and readable and submission of eDoc will apply. Should a mailing fail existing verifications, the mailer may choose to have the disqualified mailing returned for re-work or pay the additional postage to mail at a non-automation price.

In addition to the full-service verifications described above on the physical mail, the USPS performs validations of the information contained in the electronic documentation submitted with full-service mailings. The results of these full-service electronic verifications are displayed in reports aggregated over a one-month period. The USPS evaluates the data trends of full-service electronic verifications to develop reasonable thresholds to measure electronic documentation quality. Results from electronic verifications should be displayed to the mailer within 48 hours of the postage statement finalization.

Mailers may use the Mailer Scorecard report in the PostalOne! microStrategy environment to review the mailing of electronic verification quality and drill into detailed information on each error.

No assessments will be made as a result of any full-service electronic verification until July 1, 2014. Information on accessing and using the Mailer Scorecard can be found on RIBBS: http://ribbs.usps.gov.

Testing Environment for Mailers (TEM) and Electronic Documentation (eDoc) Comments

Mailer Comment

How will the Postal Service continue to improve systems and processes around full-service testing?

Postal Service Response

The USPS worked with the mailing industry to identify full-service gaps, and is working to implement corrections and enhancements. We implemented changes to improve system throughput, capacity, and performance. We have also enhanced our testing environment to support more production-like volume for testing and performance.

The Postal Service developed a process to authorize software vendors for electronic documentation and full-service capabilities. Use of authorized software simplifies the onboarding process for mailers. The Postal Service published the list of authorized software vendors on RIBBS at http://ribbs.usps.gov.

Mailers using authorized software are asked to submit a single file to TEM to show they can use their software to generate accurate eDoc. Mailers can view the postage statements and supporting documentation to ensure the accuracy of the transaction in the TEM environment. Once a mailer has submitted and reviewed the single file, the testing process is complete.

Documentation regarding the simplified TEM process can be found on RIBBS at https://ribbs.usps.gov.

Mailer Comment

By not offering a fully automated TEM, the Postal Service unnecessarily relies on processes that are not extensible. Mailers will likely delay full-service implementation until the end of 2013, which creates a bottleneck. The current TEM is not set up to handle a massive influx of mailers — what are your plans to address this matter?

Postal Service Response

Since October 2012, the Postal Service published a list of software products authorized for eDoc and full-service mailing scenarios. The TEM onboarding process has been simplified for mailers using an authorized software product. Mailers submit a single file to TEM that shows they are able to use the software and generate accurate eDoc. Mailers can view the postage statement and supporting documentation to ensure accuracy of the transaction in the TEM environment. Once a mailer has submitted and reviewed the single file, the testing process is complete. Further documentation regarding the simplified TEM process can be found on RIBBS.

In addition to TEM, the Postal Service is establishing a pre-production environment available for mailers to use for testing. This environment is available at the start of testing for an upcoming release.

Mailer Comment

Please clarify the following information regarding eDoc (Is this a new or existing requirement?): “When entering full-service mailings, eDoc is required. A mailer's eDoc identifies the unique IMb applied to each mailpiece, tray, tub, sack, and container; it describes how mailpieces are linked to handling units, such as trays, tubs, and sacks; and identifies how mailpieces and handling units are linked to containers. Additionally, eDoc identifies spoilage or shortage of pieces in a mailing, the preparer of the mailing, and the mailer for whom the mailing is prepared (i.e., mail owner). Mail owner identification is required for all pieces in a full-service mailing.”

Postal Service Response

The use of detailed eDoc, including nesting and by/for information, is an existing requirement for full-service. The Postal Service allows the use of logical containers and trays to simplify the requirements to track each mailpiece to a handling unit and each handling unit to a container. Logical containers/trays allow all mail going to the same destination at the same presort level to be handled as a single logical entity. Individual mailpieces can be traced to a destination instead of a physical tray. Additional technical details on the requirements to complete eDoc for full-service can be found on RIBBS in the “Guide to Intelligent Mail for Letters and Flats.”

Mailer Comment

We recommend that the Postal Service provide a matrix of mailing types that must comply with the eDoc standards and those which are not required to comply. Also, it is recommended that the matrix identify the requirements in which the non-supported mailings must comply to ensure automation prices. If the Postal Service plans to transition those mailing types to eDoc capabilities, then a schedule should be provided.

Postal Service Response

The Postal Service plans to support all full-service automation eligible mailings with eDoc before January 26, 2014. The following classes and mail types are covered by full-service: First-Class Mail cards, letters, and flats; Standard Mail letters and flats except for Saturation ECR flats; Periodicals letters and flats; and nonpresorted and presorted Bound Printed Matter (BPM) flats (except BPM flats entered at destination delivery units “DDUs”). Full-service is an option but will not be required for Standard Mail enhanced carrier route (ECR) basic, high-density, and high-density plus flats.

General Comments

Mailer Comment

Under appointment scheduling, please explain “linking” container data. Is this a different process from “providing” container data?

Postal Service Response

“Linking” container data refers to associating a container to a specific FAST appointment to notify the Postal Service that a container will arrive at a facility on a specific date or by a designated time.

Mailer Comment

Our organization is concerned about the revision to DMM 705.24.4.4, “Unless otherwise authorized, documentation must describe how each mailpiece is linked to a uniquely identified tray or sack and how each mailpiece and tray or sack is linked to a uniquely identified container. Linking to logical trays, sacks, and containers via sibling records is an option when linking to a specific tray, sack, or container is not feasible.” Clarification to the term “authorized” or at least identification of the authorization scenario is requested. For example, authorization may be warranted because of file submission methods, special agreements, or as defined in a section of the DMM or a specific guide. Similarly, clarification is necessary regarding the process to determine “feasibility” when allowed to use the “logical” or physical option. Is it a mailer or USPS decision?

Postal Service Response

Previously, the use of logical handling units and containers was limited to MLOCR mailers. Based on feedback from the mailing industry, the Postal Service will now make the logical option available to all mailers in all mailing environments. The decision to present mail in physical or logical containers is a mailer's decision.

Transitioning to Full-Service Intelligent Mail

The Postal Service continues to develop enhancements, simplify existing tools, streamline the processes for mailers to prepare mailings, and provide ease of use for all mailers to transition to full-service Intelligent Mail. The Postal Service also recognizes there are costs for mailers associated with converting to full-service Intelligent Mail.

In support of the transition to full-service Intelligent Mail, the Postal Service offers the following incentives, on-boarding simplifications, process enhancements, and self-service tools:

Full-Service Technology Credit

To encourage the adoption of full-service Intelligent Mail, the Postal Service will be offering a full-service Technology Credit (Tech Credit). Tech Credits will be available for $2000, $3000, or $5000 and may be redeemed as a postage credit after June 1, 2013, pending the approval of the Postal Regulatory Commission (PRC).

Qualification Process

Each business location that exceeded 125,000 pieces of qualifying mail volume from October 1, 2011, through September 30, 2012, is eligible to redeem one (1) Tech Credit amount. All permits and business locations have been considered for the Tech Credit program.

A mailer's qualifying volume includes:

First-Class Mail automation cards, letters, and flats.

Standard Mail automation letters and flats, which includes:

Letters—Automation and ECR saturation, high-density, and basic.

Flats—Automation and ECR high density and basic.

Periodicals automation letters and flats and carrier-route letters and flats.

BPM barcoded flats: presorted non-DDU, presorted DDU, and carrier route.

Tech Credit Amounts

125,001-500,000 qualifying pieces = $2,000 postage credit.

500,001-2,000,000 qualifying pieces = $3,000 postage credit.

More than 2,000,000 qualifying pieces = $5,000 postage credit.

Tech Credit Redemption

The Tech Credit redemption period runs from June 1, 2013, through May 31, 2014. A qualified business location may redeem its Tech Credit amount as a postage credit when:

The permit holder's paying permit is linked to a qualified business location.

The postage statement bears 90 percent or more full-service pieces.

The postage statement submission type is Mail.dat or Mail.XML.

Upon submission of an eligible postage statement, the Tech Credit will be automatically applied in full. A partial Tech Credit amount is applied to the statement if the Tech Credit amount is greater than the total postage for the postage statement. The Remaining Tech Credit amount will be applied to the next eligible statement(s).

Resources & Timeline

Detailed information regarding the Tech Credit program is available on RIBBS at https://ribbs.usps.gov. All of the Tech Credit information above is subject to review and approval by the PRC.

Full-Service Certification Process for Vendors

The Postal Service has developed a process to authorize software vendors for electronic documentation and full-service capabilities. Use of authorized software simplifies the on-boarding process for mailers. The Postal Service published the list of authorized software vendors on RIBBS at http://ribbs.usps.gov.

Simplified On-boarding for Mailers

Mailers using certified software are asked to submit only a single file to TEM to show they can use the software to generate accurate eDoc. Mailers can view the postage statements and supporting documentation to ensure the accuracy of each transaction in the TEM environment. Once the mailer has submitted and reviewed the single file, the testing process is complete. Documentation regarding the simplified TEM process can be found on RIBBS at http://ribbs.usps.gov.

System Simplification

Other enhancements to the systems include the following:

The Mail.dat® and Mail.XML™ error messages from uploading eDoc are standardized to provide explanations of irregularities more clearly and allow mailers to take corrective action.

The PostalOne! Dashboard is continually enhanced, and includes new functionalities that allow mailer-initiated job cancellations, so that mailers can cancel a job if none of the statements in the job have been finalized or accepted by a postal acceptance clerk. Also, if there is more than one statement in a job, all of the statements associated with the job are cancelled through this user interface.

Intelligent Mail Small Business Tool

The Intelligent Mail Small Business (IMsb) Tool is an online, self-service option for business mailers, which allows the production of a unique IMb. This online tool is accessible through the BCG. This mailing option may be used for mailings consisting of 5,000 or fewer pieces with an annual maximum threshold of 125,000 pieces. The tool may be used for mailings of FCM and Standard Mail cards, letters, or flats. Customers may use the tool to qualify for the full-service Mixed Automated Area Distribution Center (MXD AADC) and Mixed Area Distribution Center (MXD ADC) automation prices. Postage statements are submitted electronically through Postage Wizard®. More detailed information regarding this tool is available on RIBBS at http://ribbs.usps.gov

Requirements for Full-Service Intelligent Mail

Full-service Intelligent Mail may consist of mailpiece barcodes, tray barcodes, and container barcodes as follows:

• Mailpiece barcode. The IMb on letter and flat mailpieces encodes up to 31 digits of mailpiece data into 65 vertical bars. The IMb contains additional fields that encode ancillary services, identify the mailer and the class of mail, and allow unique numbering/serialization of the mailpiece. The Postal Service will issue a unique MID to each mailer using full-service Intelligent Mail, and the USPS-assigned MID must be included in the IMb. Mailers are required to uniquely number each mailpiece in a mailing and not reuse any of the numbers for a period of 45 days from the date of mailing, except for simple mailings under 10,000 pieces. A MID can be obtained through any of the three methods described in detail in the “Quick Step Guide to Nine-Digit MID and/or CRID Acquisition”, posted on RIBBS at https://ribbs.usps.gov/intelligentmail_mail_id_app/documents/tech_guides/MIDCRIDAcquisitionQuickStep.pdf.

• Tray barcode. An IMtb is required on full-service letter trays, flat tubs. and sacks. Unlike the 10-digit tray barcode containing only currently used routing information, the 24-digit IMtb includes additional fields to identify the mailer and uniquely number each tray, tub, or sack. The mailer's USPS-assigned MID must be included in the IMtb. Mailers are required to uniquely number each tray or sack in a mailing and not reuse any of the numbers for a period of 45 days from the date of mailing, except for simple mailings under 10,000 pieces. Pieces inside each tray must be electronically linked or nested to the IMtb or to the corresponding logical tray, tub, or sack.

• Container barcode. An IMcb is required on all containers used to transport and enter mail at postal processing centers, such as pallets, all purpose containers (APCs), rolling stock, and gaylords. This 21-digit IMcb includes fields to identify the mailer and uniquely number each container. Mailers must include their USPS-assigned MID in the IMcb. Mailers are required to uniquely number each container in a mailing and not reuse any of the numbers for a period of 45 days from the date of mailing. Trays, tubs, or sacks inside the container must be electronically linked or nested to the IMcb.

When automation mailings are not required to be containerized (not enough mail to require a pallet or rolling stock) or the mailer does not choose to containerize when not required to do so, an IMcb is not required on placards nor is submission of IMcb records required in eDoc.

Container barcodes are not required for a FCM mailing of less than 48 linear feet of letter trays or 16 linear feet of flat tubs.

Containers barcodes are required for mailings of FCM when:

○ The mailer has a customer service agreement (CSA).

○ The mailing is separated into different containers by destination.

○ The mailer chooses to containerize the mailing according to DMM 705.8.0.

○ The mail is entered at the dock of a processing facility and meets the following conditions:

—The mail is prepared in an all-purpose container (APC), gaylord, or rolling stock.

—The mail consists of greater than or equal to 48 linear feet of letter trays, 16 linear feet of flats tubs,

—The mail is prepared on a pallet and is greater than or equal to 72 linear feet of letter trays or 24 linear feet of flat tubs.

Container barcodes are required for a Standard Mail, Periodicals, or BPM mailing when:

○ The mailing is more than 500 pounds of bundles/sacks.

○ The mailing is more than 72 linear feet of trays.

○ The mailing is separated into different destinations by container.

○ The mailing is required to be containerized under DMM 705.8.0.

○ The mailer chooses to containerize the mailing under DMM 705.8.0.

Description of Intelligent Mail Barcodes

Effective January 26, 2014, when mailings are entered and full-service automation prices are claimed, mailpieces must bear unique Intelligent Mail barcodes. Full-service unique Intelligent Mail barcodes must be embedded with the following data: Barcode Identifier and OEL information (if printed on the mailpiece), Service Type Identifier (showing class of mail), Mailer Identifier, Unique Serial Number, and Delivery Point Routing Code (11-digit).

• Barcode Identifier: The barcode ID is a 2-digit field reserved to encode the presort identification printed in human-readable form on the Optional Endorsement Line (OEL). Should be left as “00” if an OEL is not printed on the mailpiece, except for automation-rate eligible flat mail with an optional endorsement line, when the IMb must contain OEL coding corresponding to the correct sortation level of each piece.

• Service Type Identifier: The service type identifier (STID) indicates class of mail and requested special services such as scan information or ACS.

• Mailer Identifier: The MID is a mandatory 6- or 9-digit identifier of the mail owner/mailing agent assigned by the Postal Service based upon documented historical mail volume of the owner/agent.

• Serial Number: The serial number is complementary with the MID for a combined total of 15 digits, which leaves the mailer/agent with 6 or 9 digits for unique mailpiece identification. A combination of the MID and serial number within a mail class must not be reused within 45 days of the mailing date. Small mailings can use the same serial number for all pieces when: The mailing has fewer than 10,000 pieces, postage is affixed to each piece at the correct price, and the pieces are of identical weight and separated by price. In this case, uniqueness is required at the mailing level.

• Delivery Point Routing Code: The delivery point routing code describes the 5-, 9-, or 11-digit field that identifies the delivery ZIP Code data in the address.

To view final specifications and detailed information on the IMb, access RIBBS at http://ribbs.usps.gov.

Description of Intelligent Mail Tray Barcodes

Effective January 26, 2014, when mailings are entered and full-service automation prices are claimed, mailers must use tray labels that bear 24-digit IMtb. An IMtb contains the following information:

• ZIP Code™: A 5-digit ZIP Code used to identify the destination of the tray or sack.

• Content Identifier Number (CIN): Describes tray or sack content, including presort level and class.

• Content Label Source (L SRC): Designates whether tray, tub, or sack contents are automation compatible.

• Mailer ID: A 6- or 9-digit MID assigned by the Postal Service for use in the Intelligent Mail barcodes.

• Serial Number: A mailer uses this field to uniquely identify individual trays, tubs, or sacks. If a 6-digit MID is assigned, the mailer has 8 digits to uniquely identify the handling units. If a 9-digit MID is assigned, the mailer has 5 digits to identify the handling units. To participate in the full-service option, the Serial Number field is populated with a unique number for each handling unit (tray or sack) in the mailing. For 45 days from the date of mailing, these serial numbers must remain unique. Small mailings that have fewer than 10,000 pieces can use the same serial number for all trays in the mailing, if postage is affixed to each piece at the correct price, or the pieces are of identical weight and separated by price.

• Label Type: Indicates MID field length. To access automation prices through the full-service option, mailers are required to populate all fields in the IMtb and include a unique serial number.

To view the final specifications and detailed information on the IMtb, access RIBBS at http://ribbs.usps.gov/.

Description of Intelligent Mail Container Barcodes

Mailers typically label containers of mail deposited with the Postal Service. For full-service, mailers must apply a unique IMcb to container placards and keep the barcode unique for at least 45 days from the date of mailing. This IMcb includes fields to identify the mailer and uniquely identify each container. To comply with the full-service standards, mailers must apply placards to all containers such as pallets, APCs, rolling stock, and gaylords separated by destination, according to the CSA or the pallet preparation standards in the DMM. Situations in which containers are not required are described above under the full-service requirements.

The IMcb has two formats. The format a mailer uses depends upon the MID assigned by the Postal Service.

The IMcb label specifications are available in two physical sizes for the IMcb barcode labels: One is the 8″ min x 11″ format available on RIBBS, and the other size is the 4″ x 7″ self-adhesive format, also available on RIBBS.

• Application ID (Appl ID): “99” indicates the source of the barcode.

• Type Indicator: “M” indicates a mailer-generated barcode.

• Mailer ID: A 6- or 9-digit MID assigned by the Postal Service for use in the IMb.

• Serial Number: A mailer uses this field to uniquely identify individual containers. If a 6-digit MID is assigned, the mailer has 12 digits to uniquely identify the containers. If a 9-digit MID is assigned, the mailer has 9 digits to identify the containers. To participate in the full-service option, the serial number field is populated with a unique number for each container in the mailing. These unique serial numbers must not be reused for 45 days from the date of mailing. To access the automation prices through the full-service option, mailers are required to populate all fields in the IMcb to include a unique serial number. To view the final specifications and detailed information on the IMcb, access RIBBS at http://ribbs.usps.gov.

Appointment Scheduling

All mailers whose mail is verified at a detached mail unit (DMU)/BMEU and transported by the mailer or their agent to a USPS processing facility, including mailings entered at origin and plant-verified drop shipments (PVDS), are required to schedule appointments using the FAST system at postal facilities where applicable. Mailers may schedule appointments online using the FAST Web site or they may submit appointment requests through PostalOne! FAST Web Services using the Mail.XML specification. For improved service performance measurement, visibility, and operational planning, the Postal Service recommends that mailers link their IMcb to FAST appointments. Mailers must provide container barcodes as part of the stand-alone content creation, appointment creation, and update processes through PostalOne! FAST Web Services. Mailers can also receive close-out data through FAST online reports or PostalOne! FAST Web Services. For more information, please log on to RIBBS at http://ribbs.usps.gov.

Electronic Documentation

By submitting documents electronically, mailers manage mailing data more effectively and avoid the creation of paper-based forms. Additionally, electronic submission of documents enables the Postal Service to capture efficiencies.

When entering full-service mailings, eDoc is required. A mailer's eDoc identifies the unique IMb applied to each mailpiece, tray, tub, sack, and container. It describes how mailpieces are linked to handling units, such as trays, tubs, and sacks and identifies how mailpieces and handling units are linked to containers. Additionally, eDoc identifies spoilage or shortage of pieces in a mailing, the preparer of the mailing, and the mailer for whom the mailing is prepared (i.e., mail owner). Mail owner identification is required for all pieces in a full-service mailing except when a mail owner contributed fewer than 5,000 pieces to the mailing.

The eDoc is transmitted to PostalOne! and used for verification, acceptance, payment, service performance measurement, and induction planning and processing. Also, PostalOne! can use this information to automate postage statement generation and payment processing. PostalOne! has the capability to provide mailers with access to their mailing documentation and financial transaction information 24 hours a day, 7 days a week. The PostalOne! system translates the customer-generated electronic information into postage statements and supporting documentation, such as qualification and container reports, which are used for verification, acceptance, and induction processes.

Mailings With Fewer Than 10,000 Pieces

Full-service mailings with fewer than 10,000 pieces do not require the submission of eDoc—only an electronic postage statement is required. These mailings may be electronically submitted using the Postal Wizard, Mail.XML, or Mail.dat. Mailings of fewer than 5,000 pieces can also be submitted using the IMsb tool.

For mailings of fewer than 10,000 pieces, when postage is affixed to each piece at the correct price or each piece is of identical weight and the mailpieces are separated by price, the serial number field of each IMb can be populated with a mailing serial number unique to the mailing but common to all pieces in the mailing. This unique mailing serial number must not be reused for a period of 45 days from the date of mailing. Mailers who enter such mailings are required to submit an electronic postage statement, instead of eDoc. Unique mailing serial numbers must be provided in the electronic documentation.

Mailings With 10,000 Pieces or Greater

When full-service mailings with 10,000 or more pieces are entered, mailers are required to use Mail.dat or Mail.XML to electronically transmit mailing documentation and postage statements. eDoc must contain information about the unique ID applied to the mailpieces, placards, trays, tubs, sacks, and containers. Also, the information must describe how mailpieces are linked to handling units and how mailpieces and handling units are linked to containers.

In addition, when mailings are co-palletized, co-mingled, or combined in-house or at a different plant, eDoc that outlines the linkage among associated containers, trays, tubs, and sacks is required.

Submitting eDoc

The four methods for submitting eDoc are described as follows:

Mail.dat: Mail.dat serves as a medium for electronic data exchange, is part of the overall PostalOne! Application, and provides customers with the capability to electronically submit mailing documentation over a secure connection. Mail.dat uses industry-standard electronic file formats to facilitate communication. Mailing information is used to generate documentation to support verification, payment, and induction processes. Mail.dat specifications are available on RIBBS at http://ribbs.usps.gov.

Mail.XML: The Mail.XML is an overarching communication specification that allows mailers to transmit eDoc and manage appointments with the Postal Service. It provides mailing information to mailers on quality, address corrections, induction, and visibility. Mail.XML can also enable communication between mailers and consolidators/transporters. It is part of the overall PostalOne! application that enables a just-in-time connection (sending information when you are ready to share). The Mail.XML Web Service uses a Simple Object Access Protocol (SOAP) to submit information in an Extensible Markup Language (XML) format that ensures data is sent and received by applications written in various languages and deployed on various platforms. Mailing information is sent through Mail.XML to the PostalOne! system, where the information is stored and used to generate documentation to support verification and payment. Mail.XML specifications are available on RIBBS at http://ribbs.usps.gov.

Postal Wizard: The Postal Wizard is an online tool that allows mailers to use PostalOne! to securely enter their postage statement information. Mailers may access Postal Wizard through the BCG at https://gateway.usps.com.

Postal Wizard verifies completed information for an online postage statement and automatically populates the permit holder section of the postage statement based on the account number provided. It guides the user through items needed to complete the statement. Postal Wizard automatically calculates postage and validates submitted information. Once a postage statement is completed online, the electronic statement is submitted directly to the acceptance unit. For full-service mailings using the Postal Wizard, only the owner of the mailing permit receives start-the-clock feedback.

Intelligent Mail Small Business Tool: The Intelligent Mail Small Business (IMsb) Tool is an online, self-service option for small business mailers, which allows the production of a unique IMb. This online tool is accessible through the Business Customer Gateway (BCG).

PostalOne! Outage: When the PostalOne! system is unavailable to upload eDoc, mailers are still able to enter their mailings and receive full-service automation pricing. Mailers must maintain a daily log of mailings while the system is unavailable. Mailers are expected to submit the electronic documentation for mailings entered while PostalOne! was unavailable within three (3) business days of the system becoming available.

Mailer System Outage: When a mailer is unable to submit electronic documentation to the PostalOne! system due to an internal issue, the mailer may still enter mailings and receive full-service automation pricing. The mailer must call the help desk and log a ticket describing their technical issue, impacted sites, and anticipated resolution date. Mailers are expected to submit the electronic documentation for mailings entered while the system was unavailable within three (3) business days of system recovery.

For detailed information about electronic mailing options, access RIBBS at http://ribbs.usps.gov.

Additional Mailing Information Available With Full-Service

As part of the full-service program, the Postal Service is making the following information available through the online Postal Service BCG tool and PostalOne! Web Services (Mail.XML): Induction and processing scans for containers, trays, and bundles; start-the-clock information; address correction data; and quality and documentation error reporting information. Mailers can query the information or obtain an automated subscription. Piece scans are also included in the full-service program and available through the IMb Tracing system at https://mailtracking.usps.gov.

Intelligent Mail Barcode Embedded Data:

Address correction information is not available for Standard Mail flats paid at basic, high-density, high-density plus ECR prices or BPM flats paid at barcoded, presort DDU or barcoded, carrier-route prices.

The Postal Service adopts the following changes to the Mailing Standards of the United States Postal Service, Domestic Mail Manual (DMM), which is incorporated by reference in the Code of Federal Regulations. See 39 CFR 111.1.

List of Subjects in 39 CFR Part 111

Administrative practice and procedure, Postal Service.

Accordingly, 39 CFR part 111 is amended as follows:

PART 111—[AMENDED.]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

Mailing Standards of the United States Postal Service, Domestic Mail Manual (DMM)

* * * * *

200 Commercial Letters and Cards

* * * * *

230 First-Class Mail

233 Prices and Eligibility

* * * * *

5.0 Additional Eligibility Standards for Automation First-Class Mail Letters

5.1 Basic Standards for Automation First-Class Mail Letters

[Revise the introductory text of 5.1 as follows:]

All pieces in a First-Class Mail automation mailing must meet full-service standards in 705.24.0 and:

* * * * *

[Revise item 5.1e as follows:]

e. Bear an accurate unique Intelligent Mail barcode encoded with the correct delivery point routing code that matches the delivery address and meet the standards in 202.5.0 and 708.4.0, whether on the piece or on an insert showing through an envelope window.

* * * * *

[Delete current 5.2 in its entirety and renumber current 5.3 through 5.5 as new 5.2 through 5.4.]

* * * * *

240 Standard Mail

243 Prices and Eligibility

* * * * *

6.0 Additional Eligibility Standards for Enhanced Carrier Route Standard Mail Letters

6.1 General Enhanced Carrier Route Standards

* * * * *

6.1.2 Basic Eligibility

All pieces in an Enhanced Carrier Route or Nonprofit Enhanced Carrier Route Standard Mail mailing must:

* * * * *

[Revise item 6.1.2g as follows:]

g. Meet the requirements for automation letters in 201.3.0 and bear an accurate unique Intelligent Mail barcode encoded with the correct delivery point routing code matching the delivery address and meet the standards in 202.5.0 and 708.4.0, except for letters with simplified addresses or as provided in 6.1.2h. Letters mailed at automation carrier route (basic, high density, or saturation) prices must be in a mailing entered under full-service Intelligent Mail standards in 705.24.0. Pieces prepared with a simplified address format are exempt from the full-service, automation-compatibility, and barcode requirements.

* * * * *

6.4 High Density and High-Density Plus (Enhanced Carrier Route) Standards

6.4.1 Additional Eligibility Standards for High Density and High-Density Prices

[Revise the text of 6.4.1 as follows:]

In addition to the eligibility standards in 6.1, high density and high-density plus letter-size mailpieces must be in a full carrier route tray or in a carrier route bundle of 10 or more pieces prepared under 245.6.0. Except for pieces with a simplified address, only nonautomation high density and high-density plus letter prices apply when mailpieces are not: correctly barcoded with an Intelligent Mail barcode under 202.5.0 and 708.4.0, automation-compatible, and part of a full-service mailing under 705.24.0.

* * * * *

6.5 Saturation ECR Standards

6.5.1 Additional Eligibility Standards for Saturation Prices

[Revise the text of 6.5.1 as follows:]

In addition to the eligibility standards in 6.1, saturation letter-size mailpieces must be in a full carrier route tray or in a carrier route bundle of 10 or more pieces prepared under 245.6.0. Except for pieces with a simplified address, only nonautomation saturation letter prices apply when mailpieces are not: correctly barcoded with an Intelligent Mail barcode under 202.5.0 and 708.4.0, automation-compatible, and part of a full-service mailing under 705.24.0.

* * * * *

7.0 Eligibility Standards for Automation Standard Mail

7.1 Basic Eligibility Standards for Automation Standard Mail

[Revise the introductory text of 7.1 as follows:]

All pieces in a Regular Standard Mail or Nonprofit Standard Mail automation mailing must meet full-service standards in 705.24.0 and:

* * * * *

[Revise item 7.1e as follows:]

e. Bear an accurate unique Intelligent Mail barcode encoded with the correct delivery point routing code, matching the delivery address and meeting the standards in 202.5.0 and 708.4.0, either on the piece or on an insert showing through an envelope window.

* * * * *

[Delete current 7.2 in its entirety and renumber current 7.3 through 7.6 as new 7.2 through 7.5.]

* * * * *

300 Commercial Flats

* * * * *

330 First-Class Mail

333 Prices and Eligibility

* * * * *

5.0 Additional Eligibility Standards for Automation First-Class Mail Flats

5.1 Basic Standards for Automation First-Class Mail

[Revise the introductory text of 5.1 as follows:]

All pieces in a First-Class Mail automation flats mailing must meet full-service standards in 705.24.0 and:

* * * * *

[Revise item 5.1e as follows:]

e. Bear an accurate unique Intelligent Mail barcode encoded with the correct delivery point routing code, matching the delivery address and meet the standards in 302.5.0 and 708.4.0, either on the piece or on an insert showing through an envelope window.

* * * * *

[Delete current 5.2 in its entirety and renumber current 5.3 through 5.5 as new 5.2 through 5.4.]

* * * * *

340 Standard Mail

343 Prices and Eligibility

* * * * *

7.0 Additional Eligibility Standards for Automation Standard Mail Flats

7.1 Basic Eligibility Standards for Automation Standard Mail

[Revise the introductory text of 7.1 as follows:]

All pieces in a Regular Standard Mail or Nonprofit Standard Mail automation mailing must meet full-service standards in 705.24.0 and:

* * * * *

[Revise item 7.1e as follows:]

e. Bear an accurate unique Intelligent Mail barcode encoded with the correct

delivery point routing code, matching the delivery address and meet the standards in 302.5.0 and 708.4.0, either on the piece or on an insert showing through an envelope window.

* * * * *

[Delete current 7.2 in its entirety and renumber current 7.3 through 7.4 as new 7.2 through 7.3.]

* * * * *

360 Bound Printed Matter

363 Prices and Eligibility

* * * * *

4.0 Price Eligibility for Bound Printed Matter Flats

4.1 Price Eligibility

* * * Price categories are as follows:

* * * * *

[Revise item 4.1d as follows:]

d. Barcoded Discount—Flats. The barcoded discount applies to BPM flats that meet the requirements for automation flats in 301.3.0, bear an accurate unique Intelligent Mail barcode encoded with the correct delivery point routing code, and are part of a full-service mailing under 705.24.0. See 6.1 for more information.

* * * * *

6.0 Additional Eligibility Standards for Barcoded Bound Printed Matter Flats

6.1 Basic Eligibility Standards for Barcoded Bound Printed Matter

[Revise the text of 6.1 as follows:]

The barcode discount applies only to BPM flat-size pieces meeting the standards under 301.3.0 and bearing a unique Intelligent Mail barcode encoded with the correct delivery point routing code, matching the delivery address, and meeting the standards in 302.5.0 and 708.4.0. The pieces must be part of a full-service (under 705.24.0) nonpresorted mailing of 50 or more flat-size pieces or part of a full-service Presorted mailing of at least 300 BPM flats prepared under 365.7.0, 705.8.0, 705.14.0, and 705.24.0. The barcode discount is not available for flats mailed at Presorted DDU prices or carrier route prices.

* * * * *

[Delete current 6.2 in its entirety and renumber current 6.3 through 6.4 as new 6.2 through 6.3.]

* * * * *

500 Additional Mailing Services

503 Extra Services

* * * * *

[Revise the title of 15.0 as follows:]

15.0 Intelligent Mail Barcode Tracing

* * * * *

15.1 Basic Information

* * * * *

15.1.1 General Information

[Revise the text of 15.1.1 as follows:]

Participation in Intelligent Mail barcode (IMb) Tracing service is available at no charge without a subscription. Requirements for participation in IMb Tracing include:

• Use of an IMb on mailpieces entered as part of a full-service mailing under 705.24.0.

• Use of a Mailer Identifier that has been registered (through the Business Customer Gateway, accessible on usps.com) to receive scan data.

• Verification by the Postal Service that the IMb as printed meets all applicable postal standards.

* * * * *

700 Special Standards

* * * * *

705 Advanced Preparation and Special Postage Payment Systems

* * * * *

24.1 Description

[Revise the title of 24.0 as follows:]

24.0 Full-Service Automation Standards

24.1 Description

* * * [Add three new sentences at the end of the current text of 24.1 as follows:]

Full-service automation mailings may include automation-compatible pieces without barcodes, with POSTNET barcodes, or with non-full-service Intelligent Mail barcodes, but these pieces will not be used to meet the eligibility standards for full-service or receive associated benefits. Full-service automation letters must not be comingled in the same tray with pieces without barcodes, pieces with POSTNET barcodes, or pieces with an IMb without a delivery point barcode. Full-service automation mailpieces may be comingled in a tray with non-full-service eligible pieces (automation-compatible under 201.3.0) with an IMb containing a delivery point barcode.

[Delete current 24.1.1 and 24.1.2 in their entirety.]

24.2 General Eligibility Standards

[Revise the introductory paragraph of 24.2 as follows:]

First-Class Mail, Periodicals, and Standard Mail letters and flats meeting eligibility requirements for automation or carrier route prices (except for Standard Mail ECR saturation flats), and Bound Printed Matter flats (except for Presorted DDU-entered and carrier route flats) are potentially eligible for full-service prices. All pieces entered under full-service pricing must:

* * * * *

[Revise item 24.2c as follows:]

c. Be part of a mailing using unique Intelligent Mail container barcodes on all destination-entry pallets and other containers optionally or required to be prepared under 8.0 or as part of a customer/supplier agreement. Pallets or approved alternate containers, with unique Intelligent Mail container barcodes, must also be used whenever a mailing is entered at the dock of a USPS-processing facility and meets minimum container/pallet volume requirements under 705.8.0. A customer/supplier agreement is authorized with a service agreement signed by the mailer, the USPS District Manager, Customer Service, and the USPS Processing and Distribution Center manager. The service agreement contains provisions regarding mailer and USPS responsibilities.

* * * * *

24.4 Preparation

* * * * *

24.4.2 Intelligent Mail Tray Labels

* * * [Revise the second sentence of 24.4.2 as follows:]

Mailing documentation, when required, must associate each mailpiece to a corresponding tray or sack, or to a logical tray or sack, as described in 24.4.4.

* * * * *

24.4.3 Intelligent Mail Container Placards

[Revise the second sentence of 24.4.3 as follows:]

Mailing documentation, when required, must associate each mailpiece (and tray or sack, if applicable) to a corresponding container (or a logical container) as described in 24.4.4, unless otherwise authorized by the USPS.

* * * * *

24.4.4 Electronic Documentation

[Revise the text of 24.4.4 as follows:]

Mailers must electronically submit postage statements and mailing documentation to the PostalOne! system. Documentation must describe how each mailpiece is linked to a uniquely identified tray or sack and how each mailpiece and tray or sack is linked to a uniquely identified container. Linking to logical trays, sacks, and containers via sibling records is an option when linking to a specific tray, sack, or container is not feasible. The documentation must also meet the requirements in A Guide to Intelligent Mail for Letters and Flats (at ribbs.usps.gov). Mailers must transmit postage statements and documentation to the PostalOne! system using Mail.dat, Mail.XML, or Postal Wizard (see 24.5.3).

* * * * *

24.5.3 Special Standards—Small Volume Mailings

[Revise the text of 24.5.3 as follows:]

For mailings of fewer than 10,000 pieces, when postage is affixed to each piece at the correct price or each piece is of identical weight and the mailpieces are separated by price, the serial number field of each Intelligent Mail barcode can be populated with a mailing serial number that is unique to the mailing but common to all pieces in the mailing. This unique mailing serial number must not be reused for a period of 45 days from the date of mailing. These mailings are not required to submit electronic documentation for full-service, only an electronic postage statement. Unique mailing serial numbers must be populated in the Postal Wizard entry screen field or in the electronic documentation.

* * * * *

707 Periodicals

* * * * *

13.0 Carrier Route Eligibility

* * * * *

13.4 Full-Service Intelligent Mail Eligibility Standards

[Revise the introductory text of 13.4 as follows:]

In addition to other requirements in 6.0, carrier route letters and flats eligible for full-service Intelligent Mail prices and address correction benefits under 705.24 must:

[Revise the last sentence of 13.4d as follows:]

d. * * * Letters or flats with Intelligent Mail barcodes entered under the full-service automation option must also be part of mailings that meet the standards in 705.24.

* * * * *

14.0 Barcoded (Automation) Eligibility

14.1 Basic Standards

[Revise the introductory text of 14.1 as follows:]

All pieces in a Periodicals barcoded (automation) mailing must meet the full-service standards in 705.24.0 and:

* * * * *

[Revise the first sentence of item 14.1c as follows:]

c. Bear an accurate unique Intelligent Mail barcode encoded with the correct delivery point routing code, matching the delivery address, and meeting the standards in 202.5.0 (for letters), 302.4.0 (for flats), and 708.4.0, either on the piece or on an insert showing through a window.

* * * * *

14.2 Eligibility Standards for Full-Service Automation Periodicals

[Revise the introductory text of 14.2 as follows:]

All pieces entered under the full-service automation standards must:

* * * * *

[Revise item 14.2b as follows:]

b. Be part of a mailing that meets the standards in 705.24.0.

* * * * *

708 Technical Specifications

* * * * *

6.0 Standards for Barcoded Tray Labels, Sack Labels, and Container Placards

6.1 General

6.1.1 Tray and Sack Labels

[Revise the text of 6.1.1 as follows:]

Intelligent Mail tray labels are the USPS-approved method to encode routing, content, origin, and mailer information on trays and sacks. Intelligent Mail tray labels are designed for optimum use with Intelligent Mail barcoded mail and have the capacity to provide unique identification throughout postal processing, but are required for use on all trays and sacks in presorted mailings.

6.1.2 Container Placards

[Revise 6.1.2 by adding items “a” and “b” as follows:]

a. Intelligent Mail container placards are not required for small mailings of Standard Mail, Periodicals, and Bound Printed Matter letters and flats when entered at a BMEU, if the mailing is less than 500 pounds of bundles or sacks and fewer than 72 linear feet of trays.

b. Intelligent Mail container placards are not required when entering mail at a co-located BMEU within the service area where mail is entered, if the mailing consists of 100 but less than 250 pounds of bundles or sacks, and at least 12 but fewer than 35 linear feet of trays.

* * * * *

6.2 Specifications for Barcoded Tray and Sack Labels

* * * * *

6.2.2 Line 1 (Destination Line)

The destination line must meet these standards:

a. Placement. The destination line must be the top line of the label. An exception is that one line of extraneous information may appear above the destination line on tray and sack labels as provided in 6.3.2, and 6.3.2f. The destination line must be completely visible when placed in the label holder. Visibility is ensured if the destination line is no less than ⅛ (0.125) inch below the top of the label when the label is cut and prepared.

[Delete Exhibit 6.2.2a, Barcoded 2-inch Sack Labels, in its entirety.]

* * * * *

[Delete Exhibit 6.2.2b, Barcoded 1-inch Sack Labels, in its entirety.]

* * * * *

6.2.5 Line 3 (Origin Line)

[Revise the first sentence of 6.2.5 as follows:]

The origin line must appear below the content line, except as allowed under 6.3.4 and 6.2.5a and 6.2.5b. * * *

* * * * *

[Delete current 6.3, Additional Standards—Barcoded 2-Inch Sack Labels and Barcoded Tray Labels, and 6.4, Additional Standards—Barcoded 1-Inch Sack Labels, in their entirety.]

* * * * *

[Renumber current 6.5 as new 6.3 and revise the title as follows:]

6.3 Specific Standards for Intelligent Mail Tray Labels

6.3.1 Definitions

[Revise the text of renumbered 6.3.1 as follows:]

Intelligent Mail tray labels are 2-inch labels used on trays and sacks to provide unique identification within postal processing. 24-digit Intelligent Mail tray labels include only a 24-digit barcode printed in International Symbology Specification (ISS) Code 128 subset C symbology (see Exhibit 6.3.3). Intelligent Mail tray labels also include a human readable field designed to indicate the carrier route for carrier route mailings, display an “AUTO” indicator text for automation mailings, or remain blank for nonautomation mailings. Mailers using Intelligent Mail tray labels must print labels in the 24-digit Intelligent Mail tray label format. Detailed specifications for the tray label and barcode formats are at http://ribbs.usps.gov.

[Delete current Exhibit 6.5.1, 10/24 Transitional Intelligent Mail Tray Label, in its entirety.]

[Delete current 6.5.2, Transitional Intelligent Mail Tray Label Format, in its entirety.]

[Renumber current 6.5.3 through 6.5.7 as new 6.3.2 through 6.3.6.]

* * * * *

We will publish an amendment to 39 CFR part 111 to reflect these changes.

Stanley F. Mires,
Attorney, Legal Policy & Legislative Advice.

[FR Doc. 2013-08721 Filed 4-17-13; 8:45 am]

BILLING CODE 7710-12-P